DEPARTMENT OF DEFENSE

Office of the Secretary

[Transmittal No. 16-35]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 16-35 with attached Policy Justification and Sensitivity of Technology.

Dated: September 22, 2017.
Aaron Siegel,
Alternate OSD Federal Register Liaison Officer, Department of Defense.

Transmittal No. 16-35

Notice of Proposed Issuance of Letter of Offer Pursuant to Section 36(b)(1) of the Arms Export Control Act, as amended

(i) Prospective Purchaser: The Kingdom of Bahrain

(ii) Total Estimated Value:

Major Defense Equipment * | $21 million
Other | $ 6 million
Total | $27 million

(iii) Description and Quantity or Quantities of Articles or Services under Consideration for Purchase:

Major Defense Equipment (MDE):

One-hundred and seven (107) TOW 2A, Radio Frequency (RF) Missiles (BGM-71-4B-RF)

Seventy-seven (77) TOW 2B Aero, RF Missiles (BGM-71F-Series)

Thirty-seven (37) TOW Bunker Buster (BB), RF Missiles (BGM-71-Fl-RF)

Non-MDE: This request also includes the following Non-MDE: Government Technical Support/Logistical Support, Contractor Technical Support, and other associated equipment and services.

(iv) Military Department: Army

(v) Prior Related Cases, if any: None

(vi) Sales Commission, Fee, etc. Paid. Offered, or Agreed to be Paid: None

(vii) Sensitivity of Technology Contained in the Defense Article or Defense Services Proposed to be Sold: See Attached Annex.

(viii) Date Report Delivered to Congress: September 8, 2017

* As defined in Section 47(6) of the Arms Export Control Act.

POLICY JUSTIFICATION

Bahrain—TOW 2ARF Missile (BGM-71-4B-RF), TOW 2B RF Missiles (BGM-71F-Series), TOW BB RF Missiles (BGM-71-F1 RF)

The Government of Bahrain has requested:

Major Defense Equipment (MDE):

One-hundred and seven (107) TOW 2A, Radio Frequency (RF) Missiles (BGM-71-4B-RF)

Seventy-seven (77) TOW 2B Aero, RF Missiles (BGM-71F-Series)

Thirty-seven (37) TOW Bunker Buster (BB), RF Missiles (BGM-71-Fl-RF)

Non-MDE: The request also includes the following Non-MDE: Government Technical Support/Logistical Support, Contractor Technical Support, and other associated equipment and services.

The estimated value of MDE is $21 million. The total overall estimated value is $27 million.

This proposed sale will contribute to the foreign policy and national security of the United States by helping to improve the security of a major Non-NATO ally, which has been and continues to be an important security partner in the region.

The proposed sale of TOW 2A, TOW 2B, TOW BB missiles, and technical support will advance Bahrain's efforts to develop an integrated ground defense capability. Bahrain will use the capability as a deterrent to regional threats and to strengthen its homeland defense. This sale will also improve interoperability with United States and regional allies. Bahrain will have no difficulty absorbing this equipment into its armed forces.

The proposed sale of this equipment and support will not alter the basic military balance in the region.

The principal contractor will be Raytheon Missile Systems, Tucson, Arizona. There are no known offset agreements proposed in connection with this potential sale.

Implementation of this proposed sale will require the U.S. Government or contractor representatives to travel to Bahrain for multiple periods for equipment de-processing/fielding, system checkout and new equipment training. There will be no more than two contractor personnel in Bahrain at any one time and all efforts will take less than two weeks in total.

There will be no adverse impact on U.S. defense readiness as a result of this proposed sale.

Transmittal No. 16-35

Notice of Proposed Issuance of Letter of Offer Pursuant to Section 36(b)(1) of the Arms Export Control Act, as amended

Annex Item

No. vii

(vii) Sensitivity of Technology:

1. The Radio Frequency (RF) TOW 2A Missile (BGM-71E-4B-RF) is a direct-attack missile designed to defeat armored vehicles, reinforced urban structures, field fortifications and other such targets. TOW missiles are fired from a variety of TOW launchers used by the U.S. Army, U.S. Marine Corps, and Foreign Military Sales (FMS) customers. The TOW 2A RF missile can be launched from the same launcher platforms as the existing wire-guided TOW 2A missile without modification to the launcher. The TOW 2A missile (both wire & RF) contains two tracker beacons for the launcher to track and guide the missile in flight. Guidance commands from the launcher are provided to the missile by a RF link contained within the missile case. The hardware, software, and technical publications to be provided with the sale are UNCLASSIFIED. The highest level of classified information authorized for released through the sale of the TOW 2A is SECRET.

2. The RF TOW 2B Aero Missile (BGM-71 F-3-RF) is a fly-over-shootdown missile designed to defeat armored vehicles. TOW missiles are fired from a variety of TOW Launchers in the inventories of the U.S. Army, the U.S. Marine Corps, and Foreign Military Sales (FMS) customers. The TOW 2B Aero RF missile can be launched from the same launcher platforms as wire-guided TOW 2B and TOW 2B Aero missiles without modification to the launcher. The TOW 2B missile (both wire-guided & RF) contains two tracker beacons for the launcher to track and guide the missile in flight. Guidance commands from the launcher are provided to the missile by an RF link contained within the missile case. The hardware and technical publications to be provided with the sale are UNCLASSIFIED. Software algorithms for the system are classified SECRET. The highest level of classified information released through the sale of the TOW 2B is SECRET.

3. The RF TOW Bunker Buster (BB), BGM-71-Fl-RF is a variant of the TOW 2A that replaces the TOW 2A warhead with a high explosive blast-fragmentation warhead. This bulk charge warhead is effective against reinforced concrete walls, light armored vehicles, and earth and timber bunkers. Guidance commands from the launcher are provided to the missile by an RF link contained within the missile case. The hardware, software, and technical publications to be provided with the sale are UNCLASSIFIED. The highest level of classified information released through the sale of the TOW 2B is SECRET.

4. If a technologically advanced adversary were to obtain knowledge of the specific hardware and software elements of these variants, the information could be used to develop countermeasures that might reduce weapon system effectiveness or be used in the development of a system with similar or advanced capabilities.

5. A determination has been made by the U.S. Government that the Government of Bahrain can provide the same degree of protection for the sensitive technology being released as the U.S Government. This sale is necessary in furtherance of the U.S foreign policy and national security objectives outlined in the Policy Justification.

6. All defense articles and services listed in this transmittal have been authorized for release and export to the Government of Bahrain.

[FR Doc. 2017-20700 Filed 9-26-17; 8:45 am]

BILLING CODE 5001-06-P